DEPARTMENT OF THE INTERIOR

Fish and Wildlife Service

[FWS-HQ-ES-2019-N033; FXES11130100000C4-190-FF02ENEH00]

Endangered and Threatened Wildlife and Plants; 28 Draft Recovery Plan Revisions for 53 Species in the Southeast, Mountain-Prairie, and Pacific Southwest Regions of the United States

AGENCY: Fish and Wildlife Service, Interior.

ACTION: Notice of availability; opening of public comment period.

SUMMARY: We, the U.S. Fish and Wildlife Service (Service), announce the availability for public review and comment of 28 draft recovery plan revisions, which update recovery criteria for 53 endangered or threatened species located in 12 States (Alabama, Arizona, Arkansas, California, Florida, Georgia, Kentucky, Mississippi, Nevada, Oregon, Tennessee, and Utah) and the Commonwealth of Puerto Rico. We are updating recovery criteria to better assist in determining when an endangered species has recovered to the point that it may be reclassified as threatened, or that the protections afforded by the Endangered Species Act (ESA) are no longer necessary and the species may be removed from the ESA's protections. We request review of these draft recovery plan revisions and invite comments from local, State, Tribal, and Federal agencies, nongovernmental organizations, and the public.

DATES: We must receive comments on the draft recovery plan revisions on or before September 5, 2019.

ADDRESSES:

Reviewing documents: If you wish to review the draft recovery plan revisions, you may obtain copies from the website addresses in the table in SUPPLEMENTARY INFORMATION. You may also request copies of the draft recovery plan revisions by contacting the individuals listed in the table.

Submitting comments: If you wish to comment, see the table in SUPPLEMENTARY INFORMATION and submit your comments by one of the following methods:

1. U.S. Mail or hand-delivery: You may submit written comments and materials to the appropriate field office mailing address for the species in which you are interested;

2. Email: You may send comments by email to the identified contact person's email address in the table, for each species. Please include “Draft Recovery Plan Revision Comments” in the subject line.

FOR FURTHER INFORMATION CONTACT: For information on a particular species, contact the appropriate person listed in the table for that species in SUPPLEMENTARY INFORMATION. Individuals who are hearing impaired may call the Federal Relay Service at 800-877-8339 for TTY assistance.

SUPPLEMENTARY INFORMATION:

Background

In this notice, we announce for public review and comment the availability of 28 draft recovery plan revisions, which update recovery criteria for 53 endangered or threatened species located in 12 States (Alabama, Arizona, Arkansas, California, Florida, Georgia, Kentucky, Mississippi, Nevada, Oregon, Tennessee, and Utah) and the Commonwealth of Puerto Rico. This group of 28 draft recovery plan revisions is part of a larger effort underway to revise up to 182 recovery plans covering up to 305 species in order to achieve the following Department of the Interior Agency Priority Performance Goal outlined in the Department's Strategic Plan for Fiscal Years 2018-2022: “By September 30, 2019, 100 percent of all Fish and Wildlife Service recovery plans will have quantitative criteria for what constitutes a recovered species.”

The purpose of a recovery plan is to provide a feasible and effective roadmap for a species' recovery, with the goal of improving its status and managing its threats to the point at which protections under the ESA are no longer needed. Recovery plans must be designed so that all stakeholders and the public understand the rationale behind the recovery program, whether they were involved in writing the plan or not, and recognize their role in its implementation. We are requesting submission of any information that enhances the necessary understanding of the (1) species' biology and threats and (2) recovery needs and related implementation issues or concerns, to ensure that we have assembled, considered, and incorporated the best available scientific and commercial information into the draft recovery plan revisions for these 53 species.

Recovery plans provide important guidance to the Service, States, other partners, and the general public on methods of minimizing threats to listed species and objectives against which to measure the progress towards recovery; they are guidance and not regulatory documents. A recovery plan identifies, organizes, and prioritizes recovery actions and is an important guide that ensures sound scientific decision-making throughout the recovery process, which can take decades. Keeping recovery plans current ensures that threatened species and endangered species benefit through timely partner-coordinated implementation, based on the best available information.

A review of a recovery plan and its implementation may show that the plan is out of date or its usefulness is limited and that the plan warrants modification. The need for, and extent of, recovery plan modifications will vary considerably among recovery plans, depending on the scope and complexity of the initial plan, the structure of the document, and the involvement of stakeholders. Recovery plan modifications can range from relatively minor updates to a substantial rewrite that revises the existing plan in part (i.e., an amendment to one of the sections that modifies the existing plan), or in full (i.e., a full revision that completely replaces the existing plan). The need for a recovery plan revision may be triggered when, among other possibilities, (1) new information has been identified, such as population-level threats to the species or previously unknown life-history traits, which necessitates new or revised recovery strategy, actions, or criteria, or revision of all three in order to maintain the adequacy of the plan; and (2) the current plan is not achieving its objectives. Revisions benefit endangered and threatened species, our partners, and the public by incorporating the best available information on what is needed for species' recovery.

Revision of recovery plans requires public notice and comment under section 4(f)(4) of the ESA, including (1) a Federal Register notice of availability to give opportunity for public review and comment, (2) consideration of all information presented during the public comment period, and (3) approval by the Regional Director. When finalized, these recovery plan revisions will be made publicly available on the internet through our Environmental Conservation Online System (ECOS, https://ecos.fws.gov).

What plans are being made available for public review and comment?

This notice announces our draft recovery plan revisions for the species listed in the table below.

Common name | Scientific name | Listing status ¹ | Current range | Recovery plan name | Internet availability of proposed recovery plan revision | Contact person, phone, email | Contact person's U.S. mail address
Southeast Region (Alabama, Arkansas, Florida, Georgia, Kentucky, Louisiana, Mississippi, North Carolina, South Carolina, Tennessee, Puerto Rico, and the U.S. Virgin Islands)
Orangenacre mucket | Lampsilis perovalis | T | AL, MS | Mobile River Basin Aquatic Ecosystem Recovery Plan | https://;ecos.fws.gov/docs/recovery_plan/Orangenacre%20Mucket%20Recovery%20Plan%20Amendment.pdf | William J. Pearson, 251-441-5870, bill_pearson@fws.gov | Alabama Ecological Services Field Office, U.S. Fish and Wildlife Service, 1208-B Main Street, Daphne, AL 36526.
Alabama moccasinshell | Medionidus acutissimus | T | AL, GA, MS, TN |  | https://ecos.fws.gov/docs/recovery_plan/Alabama%20Moccasinshell%20Recovery%20Plan%20Amendment.pdf
Dark pigtoe | Pleurobema furvum | E | AL |  | https://ecos.fws.gov/docs/recovery_plan/Pleurobema%20rubellum%20Recovery%20Plan%20Amendment.pdf
Triangular kidneyshell | Ptychobranchus greenii | E | AL, GA, TN |  | https://ecos.fws.gov/docs/recovery_plan/Triangular%20Kidneyshell%20Recovery%20Plan%20Amendment.pdf
Red Hills salamander | Phaeognathus hubrichti | T | AL | Recovery Plan for the Red Hills Phaeognathus hubrichti | https://ecos.fws.gov/docs/recovery_plan/Red%20Hills%20Salamander%20Recovery%20Plan%20Amendment.pdf
Heavy pigtoe | Pleurobema taitianum | E | AL, MS | Five Tombigbee River Mussels Recovery Plan | https://ecos.fws.gov/docs/recovery_plan/Heavy%20Pigtoe%20Recovery%20Plan%20Amendment.pdf
Alabama sturgeon | Scaphirhynchus suttkusi | E | AL | Recovery Plan for the Alabama Sturgeon (Scaphirhynchus suttkusi) | https://ecos.fws.gov/docs/recovery_plan/Alabama%20Sturgeon%20Recovery%20Plan%20Amendment.pdf
Palezone shiner | Notropis albizonatus | E | AL, KY | Recovery Plan for Palezone Shiner (Notropis albizonatus) | https://ecos.fws.gov/docs/recovery_plan/Palezone%20Shiner%20Recovery%20Plan%20Amendment.pdf | Lee Andrews 502-695-0468 lee_andrews@fws.gov | Kentucky Ecological Services Field Station, 330 West Broadway, Suite 265, Frankfort, KY 40601.
Pygmy madtom | Noturus stanauli | E | TN | Recovery Plan for Pygmy Madtom (Noturus stanauli) | https://ecos.fws.gov/docs/recovery_plan/Pygmy%20Madtom%20*Recovery%20Plan%20Amendment.pdf
Cahaba shiner | Notropis cahabae | E | AL | Cahaba Shiner (Notropis cahabae) Recovery Plan | https://ecos.fws.gov/docs/recovery_plan/Cahaba%20Shiner%20Recovery%20Plan%20Amendment.pdf | Stephen Ricks, 601-321-1122 stephen_ricks@fws.gov | Mississippi Ecological Services Field Office, 6578 Dogwood View Pkwy, Suite A, Jackson, MS 39213.
Speckled pocketbook | Lampsilis streckeri | E | AR | Speckled Pocketbook Mussel (Lampsilis streckeri) Recovery Plan | https://ecos.fws.gov/docs/recovery_plan/Speckled%20Pocketbook%20Recovery%20Plan%20Amendment.pdf | Melvin L. Tobin, 501-513-4473, melvin_tobin@fws.gov | Arkansas Ecological Services Field Office, 110 South Amity Road, Suite 300, Conway, AR 72032.
Fat threeridge | Amblema neislerii | E | FL, GA | Recovery Plan for Endangered Fat Threeridge, Shinyrayed Pocketbook, Gulf Moccasinshell, Ochlockonee Moccasinshell, Oval Pigtoe and Threatened Chipola Slabshell, and Purple Bankclimber | https://ecos.fws.gov/docs/recovery_plan/Fat%20Threeridge%20Recovery%20Plan%20Amendment.pdf | Catherine T. Phillips, Ph.D., 850-769-0552, Catherine_phillips@fws.gov | Panama City Field Office, 1601 Balboa Avenue, Panama City, FL 32405.
Chipola slabshell | Elliptio chipolaensis | T | AL, FL |  | https://ecos.fws.gov/docs/recovery_plan/Chipola%20Slabshell%20Recovery%20Plan%20Amendment.pdf
Cape Sable seaside sparrow | Ammodramus maritimus mirabilis | E | FL | South Florida Multi-Species Recovery Plan | https://ecos.fws.gov/docs/recovery_plan/Cape%20Sable%20Seaside%20Sparrow%20Recovery%20Plan%20Amendment.pdf | Roxanna Hinzman, 772-469-4309, SouthFL_recoveryplancomments@fws.gov | South Florida Ecological Services Field Office, 1339 20th Street, Vero Beach, FL 32960.
Florida grasshopper sparrow | Ammodramus savannarum floridanus | E | FL |  | https://ecos.fws.gov/docs/recovery_plan/Florida%20Grasshopper%20Sparrow%20Recovery%20Plan%20Amendment.pdf
Crenulate lead-plant | Amorpha crenulata | E | FL |  | https://ecos.fws.gov/docs/recovery_plan/Pine%20Rocklands%20Recovery%20Plan%20Amendment.pdf
Deltoid spurge | Chamaesyce deltoidea ssp. deltoidea | E | FL.
Small's milkpea | Galactia smallii | E | FL.
Tiny polygala | Polygala smalli | E | FL.
Beautiful pawpaw | Deeringothamnus pulchellus | E | FL |  | https://ecos.fws.gov/docs/recovery_plan/Beautiful%20Pawpaw_Recovery%20Plan%20Amendment.pdf
Lakela's mint | Dicerandra immaculata | E | FL |  | https://ecos.fws.gov/docs/recovery_plan/Lakelas%20Mint%20Recovery%20Plan%20Amendment.pdf
Rice rat | Oryzomys palustris natator | E | FL |  | https://ecos.fws.gov/docs/recovery_plan/Silver%20Rice%20Rat%20Recovery%20Plan%20Amendment.pdf
Lower-keys marsh rabbit | Sylvilagus palustris hefneri | E | FL |  | https://ecos.fws.gov/docs/recovery_plan/Lower%20Keys%20Marsh%20Rabbit%20Recovery%20Plan%20Amendment.pdf
Capa rosa | Callicarpa ampla | E | Puerto Rico | Callicarpa ampla, Ilex sintenisii, Styrax portoricensis, Ternstroemia luquillensis, and Ternstroemia subsessilis Recovery Plan | https://ecos.fws.gov/docs/recovery_plan/Five%20Plants%20Recovery%20Plan%20Amendment.pdf | Edwin E. Muñiz, 787-851-7297 edwin_muniz@fws.gov | Caribbean Ecological Services Field Office, P.O. Box 1600, Rio Grande, PR 00745.
No common name | Ilex sintenisii | E | Puerto Rico.
Palo de jazmin | Styrax portoricensis | E | Puerto Rico.
Palo colorado | Ternstroemia luquillensis | E | Puerto Rico.
No common name | Ternstroemia subsessilis | E | Puerto Rico.
Wheeler's peperomia | Peperomia wheeleri | E | Puerto Rico | Peperomia wheeleri Recovery Plan | https://ecos.fws.gov/docs/recovery_plan/Peperomia%20wheeleri%20Recovery%20Plan%20Amendment.pdf
Uvillo | Eugenia haematocarpa | E | Puerto Rico | Recovery Plan for Pleodendron macranthum and Eugenia haematocarpa | https://ecos.fws.gov/docs/recovery_plan/Eugenia%20haematocarpa%20Pleodendron%20macrantum%20Recovery%20Plan%20Amendment.pdf
Chupacallos | Pleodendron macranthum | E | Puerto Rico.
Guajón | Eleutherodactylus cooki | T | Puerto Rico | Recovery Plan for the Guajón or Puerto Rican Demon (Eleutherodactylus cooki) | https://ecos.fws.gov/docs/recovery_plan/Puerto%20Rican%20Demon%20Recovery%20Plan%20Amendment.pdf
No common name | Elaphoglossum serpens | E | Puerto Rico | Puerto Rican Endangered Ferns Recovery Plan | https://ecos.fws.gov/docs/recovery_plan/Puerto%20Rican%20Endangered%20Ferns%20Recovery%20Plan%20Amendment.pdf
No common name | Polystichum calderonense | E | Puerto Rico.
No common name | Tectaria estremerana | E | Puerto Rico.
No common name | Thelypteris inabonensis | E | Puerto Rico.
No common name | Thelypteris verecunda | E | Puerto Rico.
No common name | Thelypteris yaucoensis | E | Puerto Rico.
No common name | Gesneria pauciflora | T | Puerto Rico | Gesneria pauciflora Recovery Plan | https://ecos.fws.gov/docs/recovery_plan/Gesneria%20pauciflora%20Recovery%20Plan%20Amendment.pdf
Mountain-Prairie Region (Colorado, Kansas, Montana, Nebraska, North Dakota, South Dakota, Utah, Wyoming)
Virgin River chub | Gila robusta seminuda | E | AZ, NV, UT | Recovery Plan for the Virgin River Fishes | https://ecos.fws.gov/tess/plan/document/addendum/view.do?addendumId=1016601 | Larry Crist, 801-975-3330, utahfieldoffice_esa@fws.gov | Utah Ecological Services Field Office, 2369 West Orton Circle, Suite 50, West Valley City, UT 84119.
Barneby ridge-cress | Lepidium barnebyanum | E | UT | Barneby Ridge-cress Lepidium barnebyanum Recovery Plan | https://ecos.fws.gov/docs/recovery_plan/Barneby%20Ridge%20Cress%20*recovery%20criteria%2020181029%20FINAL.pdf
Clay phacelia | Phacelia argillacea | E | UT | Phacelia argillacea Atwood Recovery Plan | https://ecos.fws.gov/docs/recovery_plan/Clay%20phacelia_recovery_criteria_20181210_FINAL_3.pdf
Maguire primrose | Primula maguirei | T | UT | Maguire Primrose (Primula maguirei) Recovery Plan | https://ecos.fws.gov/docs/recovery_plan/Maguire_primrose_recovery_criteria_20181210_FINAL.pdf
Autumn buttercup | Ranunculus acriformis var. aestivalis | E | UT | Autumn Buttercup Ranunculus acriformis A. Gray var. aestivalis L. Benson | https://ecos.fws.gov/docs/recovery_plan/Autumnbuttercup_recovery_criteria_20181210_FINAL.pdf
Shrubby reed-mustard | Schoenocrambe suffrutescens | E | UT | Utah Reed-Mustards: Clay Reed-Mustard (Schoenocrambe argillacea), Barneby Reed-Mustard (Schoenocrambe barnebyi), Shrubby Reed-Mustard (Schoenocrambe suffrutescens) Recovery Plan | https://ecos.fws.gov/docs/recovery_plan/Shrubby%20reed%20mustard%20recovery%20criteria_20181217_FINAL.pdf
Pacific Southwest Region (California, Nevada, and the Klamath Basin area of Oregon)
Lange's metalmark butterfly | Apodemia mormo langei | E | CA | Recovery Plan for Three Endangered Species Endemic to Antioch Dunes, California | https://ecos.fws.gov/docs/recovery_plan/Draft_RP_Amendment%20Antioch%20Dunes.pdf | Kaylee Allen, 916-930-5603, kaylee_allen@fws.gov | San Francisco Bay-Delta Fish and Wildlife Office, 650 Capitol Mall, Suite 8-300, Sacramento, CA 95814.
Contra Costa wallflower | Erysimum capitatum var. angustatum | E | CA.
Antioch Dunes evening-primrose | Oenothera deltoides ssp. howellii | E | CA.
McDonald's rock-cress | Arabis mcdonaldiana | E | CA, OR | McDonald's Rock-Cress Recovery Plan (Arabis mcdonaldiana Eastwood) | https://ecos.fws.gov/docs/recovery_plan/DRAFT%20Recovery%20Plan%20Amendment%20MCRC.pdf | Laurel Goldsmith, 707-822-7201, laurel_goldsmith@fws.gov | Arcata Fish and Wildlife Office, 1655 Heindon Road, Arcata, CA 95521.
Howell's spineflower | Chorizanthe howellii | E | CA | Seven Coastal Plants and the Myrtle's Silverspot Butterfly Recovery Plan | https://ecos.fws.gov/docs/recovery_plan/Draft%20Recovery%20Plan%20Amendment%20Chorizanthe%20howellii.pdf
Western lily | Lilium occidentale | E | CA, OR | Recovery Plan for the Endangered Western lily (Lilium occidentale) | https://ecos.fws.gov/docs/recovery_plan/Draft%20Amendment%20to%20Western%20lily%20Recovery%20Plan.pdf
White River spinedace | Lepidomeda albivallis | E | NV | White River Spinedace (Lepidomeda albivallis) Recovery Plan | https://ecos.fws.gov/docs/recovery_plan/Draft%20Recovery%20Plan%20Amendment%20for%20White%20River%20Spine dace.pdf | Glen Knowles, 801-975-3330, glen_knowles@fws.gov | Southern Nevada Fish and Wildlife Office, 4701 North Torrey Pines Drive, Las Vegas, NV 89130.
Amargosa vole | Microtus californicus scirpensis | E | CA | Amargosa vole (Microtus californicus scirpensis) Recovery Plan | https://ecos.fws.gov/docs/recovery_plan/Draft%20RP%20Amendment%20for%20AMVO.pdf | Bradd Bridges, 760-431-9440, fw8cfwocomments@fws.gov | Carlsbad Fish and Wildlife Office, 2177 Salk Avenue, Suite 250, Carlsbad, CA 92008.
¹ E = endangered; T = threatened.

How do I ask questions or provide information?

For any species listed above, please submit your questions, comments, and materials to the appropriate contact in the table above. Individuals who are hearing impaired or speech impaired may call the Federal Relay Service at 800-877-8339 for TTY assistance.

Request for Public Comments

We request written comments on the draft recovery plan modifications. We will consider all comments we receive by the date specified in DATES prior to final approval of the plans.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act (16 U.S.C. 1533 (f)).

Dated: July 19, 22019.
Margaret E. Everson,
Principal Deputy Director, U.S. Fish and Wildlife Service, Exercising the Authority of the Director for the U.S. Fish and Wildlife Service.

[FR Doc. 2019-16749 Filed 8-5-19; 8:45 am]

BILLING CODE 4333-15-P